DEPARTMENT OF THE INTERIOR

National Park Service

Notice of Intent To Prepare an Environmental Impact Statement for the Special Resource Study on the Lincoln Highway Between New York and California

AGENCY: National Park Service, Interior.

SUMMARY: Under provisions of the National Environmental Policy Act of 1969, the National Park Service (NPS) is preparing an environmental impact statement (EIS) for the special resource study (SRS) on the Lincoln Highway (Highway) between New York and California. The purpose of the study is to investigate methods to preserve the historical significance of the highway and the role it played in American popular culture, and to determine the degree and kind of federal actions (if any) necessary to achieve such preservation. The study is being prepared pursuant to Pub. L. 106-563.

To facilitate sound planning and environmental assessment, the NPS intends to gather information necessary for the preparation of the EIS, and to obtain suggestions and information from other agencies and the public on the scope of issues to be addressed in the EIS. Comments and participation in this scoping process are invited.

ADDRESSES: Written comments and information concerning preparation of the SRS/EIS or issues to be addressed in the SRS/EIS should be sent to Ruth Heikkinen, Project Leader, National Park Service, Midwest Regional Office, 1709 Jackson Street, Omaha, Nebraska 68102, ruth—heikinen@nps.gov.

DATES: Any comments on the scope of issues to be addressed in the EIS should be received no later than February 15, 2002.

FOR FURTHER INFORMATION CONTACT: Ruth Heikkinen at the address above or at telephone 402-221-7285. Direct requests to be added to the project mailing list to the same address.

SUPPLEMENTARY INFORMATION: The SRS/EIS will address a range of alternatives including potential roles for the NPS in preservation and interpretation of resources and stories related to the Lincoln Highway. In summary, the SRS will present findings on five topics:

(1) Determination of the national significance of the Lincoln Highway and associated resources;

(2) Determination of the suitability of the Highway and related resources to be included within the National Park System in relation to other sites of the same theme;

(3) Determination of feasibility for the NPS to own, manage, or participate in the conservation and interpretation of resources related to the Highway;

(4) Determination of the need for NPS management of any resources;

(5) Identification of alternatives for any potential role for the NPS in the future.

The EIS will assess the impacts of the alternatives for NPS participation. The responsible federal official is Mr. William Schenk, Regional Director, Midwest Region, National Park Service.

Our practice is to make comments, including names and addresses of respondents, available for public review. If you wish for us to withhold your name and/or address, you must state this prominently at the beginning of your comment. We will honor the request to the extent allowable by law. We are not required to consider anonymous comments. We will make all submissions from organizations or businesses, and from individuals identifying themselves as representatives or officials or organizations or businesses, available for public inspection in their entirety.

Dated: October 24, 2001.
William W. Schenk,
Regional Director.

[FR Doc. 01-29093 Filed 11-20-01; 8:45 am]

BILLING CODE 4310-70-P